DEPARTMENT OF COMMERCE

Census Bureau

Generic Clearance for Master Address File (MAF) and Topologically Integrated Geographic Encoding and Referencing (TIGER) Update Activities

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 22, 2007.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Dennis Randolph, U.S. Census Bureau, 5H024, Washington, DC 20233, 301-763-9701 (or via the Internet at Dennis.E.Randolph@census.gov).

SUPPLEMENTARY INFORMATION:

I. Abstract

The Census Bureau presently operates a generic clearance covering activities involving respondent burden associated with updating our Master Address File (MAF) and Topologically Integrated Geographic Encoding and Referencing (TIGER) system. (The MAF is the Census Bureau's address database and TIGER is the geographic database.) We now propose to extend that generic clearance to cover update activities we will undertake during the next three fiscal years. Under the terms of the generic clearance, we plan to submit a request for OMB approval that will describe all planned activities for the entire period; we will not submit a clearance package for each updating activity. We will send a letter to OMB at least two weeks before the planned start of each activity that gives more exact details, examples of forms, and final estimates of respondent burden. We also will file a year-end summary with OMB after the close of each fiscal year giving results of each activity conducted. This generic clearance enables OMB to review our overall strategy for MAF and TIGER updating in advance, instead of reviewing each activity in isolation shortly before the planned start. The Census Bureau used the MAF for mailing and delivering questionnaires to households during Census 2000. The MAF is also used as a sampling frame for our demographic current surveys. In the past, the Census Bureau built a new address list for each decennial census. The MAF we built for Census 2000 is meant to be kept current, thereby, eliminating the need to build a completely new address list for future censuses and surveys. The TIGER is a geographic system that maps the entire country in Census Blocks with applicable address range or living quarter location information. Linking MAF and TIGER allows us to assign each address to the appropriate Census Block, produce maps as needed and publish results at the appropriate level of geographic detail. The following are descriptions of activities we plan to conduct under the clearance for the next three fiscal years.

1. Demographic Area Address Listing (DAAL)

The Demographic Area Address Listing (DAAL) program encompasses the geographic area updates for the Community Address Updating System (CAUS) and the area and group quarters frame listings for many ongoing demographic surveys (the Current Population Survey, the Consumer Expenditures Survey, etc.). The CAUS program was designed to address quality concerns relating to areas with high concentrations of noncity-style addresses, and to provide a rural counterpart to the update of city-style addresses the MAF will receive from the U.S. Postal Services's Delivery Sequence File. The ongoing demographic surveys, as part of the 2000 Sample Redesign Program, plan to use the MAF as one of several sources of addresses from which to select their samples. In addition to the area and group quarters frame listings, the demographic surveys will also list blocks via the DAAL program for their Frame Assessment for Current Household Surveys (FACHS) evaluations. The DAAL program is a cooperative effort across many divisions at the Census Bureau; it includes automated listing software, systems, and procedures that will allow us to conduct listing operations in a dependent manner based on information contained in the MAF.

The DAAL operations will be conducted on an ongoing basis in potentially any county across the country. Field Representatives (FRs) will canvass selected Census tabulation blocks to improve the address list in areas where substantial address changes have occurred that have not been added to the MAF through regular update operations, and/or in blocks in the area or group quarters frame sample for the demographic surveys. FRs will update existing address information, and when necessary, contact individuals, to collect accurate location and mailing address information. In general, contact will occur only when the FR is adding to the address list, and the individual's address is not posted or visible to the FR. If the occupants of these households are not at home, the FR may attempt to contact a neighbor to determine the best time to find the occupants at home and/or to obtain the correct address information.

DAAL is an ongoing operation. Listing assignments are distributed quarterly with the work conducted throughout the time period. We expect that DAAL listings will be conducted throughout the entire time period of the extension.

2. Dress Rehearsal Address Canvassing

An Address Canvassing operation will take place as part of the 2008 Census Dress Rehearsal. The operation will take place between May 7, 2007 and June 26, 2007. The operation will be a standard address canvassing operation where census listers will canvass specified blocks and conduct brief interviews to verify or update address information against address information on the Census Bureau's address lists and maps. Listers will enter an address status for every address based on what they found out during the visit. Listers will also visit addresses not listed on our address lists and add them. They will record address information and address statuses on the address lists that reside on the hand held computer (HHC). Sites for the 2008 Census Dress Rehearsal will be San Joaquin County, California and Fayetteville and Eastern North Carolina.

3. Decennial Address Canvassing

An Address Canvassing operation will take place as part of the 2010 Decennial Census. The operation will take place between 13 April 2009 and May 2009. The operation will be a standard address canvassing operation where census listers will canvass specified blocks and conduct brief interviews to verify or update address information against address information on the Census Bureau's address lists and maps. Listers will enter an address status for every address based on what they found out during the visit. Listers will also visit addresses not listed on our address lists and add them. They will record address information and address statuses on the address lists that reside on the hand held computer (HHC). Sites for the 2010 Decennial Census will be nation wide.

4. Dress Rehearsal Update/Leave

The U.S. Census Bureau will conduct the Update/Leave operation, March 3, 2008 through April 7, 2008 in the 2008 Census Dress Rehearsal sites of San Joaquin County, California and Fayetteville and Eastern North Carolina. Update/Leave is a field operation for the 2008 Census Dress Rehearsal. The results of this test will enable the Census Bureau to identify, refine, and improve our address collection procedures for a more cost-effective and accurate decennial census.

Update/Leave requires Listers to update the Census Bureau's address list and maps, and to leave a census questionnaire at each housing unit. Listers verify and update the addresses on the address list and their locations on census maps to ensure that they are as current, complete and accurate as possible. Listers will use Form DX-105A (U/L), Update/Leave Address Listing Pages to verify, and update addresses currently in the Census Bureau's Update/Leave universe. Listers will enter an action code for every address based on what they found out. Listers will visit addresses not already listed and add them to our address list. To add addresses, Listers will use Form DX-105B (U/L), Update/Leave Add Pages.

If the occupants of these living quarters are not at home the Listers will leave a questionnaire at the household in a plastic bag, then attempt to contact neighbors in order to obtain the correct address information. If the Lister is unable to contact anyone about an address, they will use their own judgment, and information from surrounding addresses to enter the address information. Quality Control (QC) for Update/Leave consist of an initial observation, a dependent quality control check in the field and an office review of completed work.

5. Decennial Update/Leave

The U.S. Census Bureau will conduct the Update/Leave operation in the 2010 Decennial Census. Update/Leave requires Listers to update the Census Bureau's address list and maps, and to leave a census questionnaire at each housing unit. Listers verify and update the addresses on the address list and their locations on census maps to ensure that they are as current, complete and accurate as possible. Listers will use Form DX-105A (U/L), Update/Leave Address Listing Pages to verify, and update addresses currently in the Census Bureau's Update/Leave universe. Listers will enter an action code for every address based on what they found out. Listers will visit addresses not already listed and add them to our address list. To add addresses, Listers will use Form DX-105B (U/L), Update/Leave Add Pages.

If the occupants of these living quarters are not at home the Listers will leave a questionnaire at the household in a plastic bag, then attempt to contact neighbors in order to obtain the correct address information. If the Lister is unable to contact anyone about an address, they will use their own judgment, and information from surrounding addresses to enter the address information. Quality Control (QC) for Update/Leave consist of an initial observation, a dependent quality control check in the field and an office review of completed work.

6. Dress Rehearsal Group Quarters Validation (GQV)

The U.S. Census Bureau will conduct the Group Quarters Validation Operation from 17 September-24 October 2007 at the 2008 Census Dress Rehearsal sites of San Joaquin County, California and Fayetteville and Eastern North Carolina. The GQV operation, which supports the Census Bureau's strategic goal of developing methodologies for compiling a complete and accurate MAF for the 2010 Census, is designed to verify and classify addresses identified as other living quarters during the 2006 Address Canvassing operation. The addresses will be classified as Group Quarters (GQ), Housing Unit (HU), or “not a living quarters”. If the address is a GQ, the lister will label it with the correct type code, (e.g. as a college residence hall or skilled nursing unit). Listers will use the DX-351 GQV Questionnaire to list address information and type codes for each GQ in their workload. GQV creates the universe for a follow-up operation known as Group Quarters Enumeration (GQE), in which we count the residents of identified GQs.

7. Decennial Group Quarters Validation

The U.S. Census Bureau will conduct the Group Quarters Validation Operation as part of the 2010 Decennial Census. The operation will take place between Sept 11, 2009-October 22, 2009. The GQV operation verifies and classifies addresses identified as other living quarters during the Decennial Address Canvassing operation. The addresses will be classified as Group Quarters (GQ), Housing Unit (HU), or “not a living quarters”. If the address is a GQ, the lister will label it with the correct type code, (e.g. as a college residence hall or skilled nursing unit). Listers will use the DX-351 GQV Questionnaire to list address information and type codes for each GQ in their workload. GQV creates the universe for a follow-up operation known as Group Quarters Enumeration (GQE), in which we count the residents of identified GQs.

The list above is not exhaustive of all activities which may be performed under this generic clearance. We will follow the approved procedure when submitting any additional activities not specifically listed here.

II. Method of Collection

The primary method of data collection for most operations/evaluations will be personal interview by Census Listers, Verifiers or Enumerators using the operation/evaluation's listing form or questionnaire. A hand held computer and GPS software will be used as part of Address Canvassing to update address lists and maps. In some cases, the interview could be by telephone callback if no one was home on the initial visit.

III. Data

OMB Number: 0607-0809.

Form Number: Some form numbers for activities have not yet been assigned.

Type of Review: Regular submission.

Affected Public: Individuals or households.

Estimated Number of Respondents: FY07-849,900, FY08-40,000, FY09-144,300,00.

Estimated Time Per Response: Varies by operation.

Estimated Total Annual Burden Hours: FY07-14,315, FY08-2,000, FY09-2,651,000.

Estimated Total Annual Cost: The only cost to respondents is that of their time to respond.

Respondent's Obligation: Mandatory.

Legal Authority: Title 13, United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 16, 2006.
Madeleine Clayton,
Management Analyst, Office of the Chief Information Officer.

[FR Doc. E6-19709 Filed 11-21-06; 8:45 am]

BILLING CODE 3510-07-P